DEPARTMENT OF COMMERCE

Foreign-Trade Zones Board

[B-18-2014]

Foreign-Trade Zone 247—Erie, Pennsylvania; Authorization of Limited Production Activity; GE Transportation (Locomotives, Off-Highway Vehicles and Motors/Engines); Lawrence Park and Grove City, Pennsylvania

On February 14, 2014, GE Transportation submitted a notification of proposed production activity to the Foreign-Trade Zones (FTZ) Board for its facilities within Subzones 247A and 247B, in Lawrence Park and Grove City, Pennsylvania.

The notification was processed in accordance with the regulations of the FTZ Board (15 CFR part 400), including notice in the Federal Register inviting public comment (79 FR 10765-10768, 2-26-2014). The FTZ Board has determined that further review of part of the proposed activity is warranted at this time. The production activity described in the notification is authorized on a limited basis, subject to the FTZ Act and the Board's regulations, including Section 400.14, and further subject to a restriction requiring that diesel engine units (HTSUS 8502.11) be admitted to the subzones in privileged foreign status.

Elizabeth Whiteman,
Acting Executive Secretary.

[FR Doc. 2014-14385 Filed 6-19-14; 8:45 am]

BILLING CODE 3510-DS-P